DEPARTMENT OF THE INTERIOR

Fish and Wildlife Service

Information Collection Sent to the Office of Management and Budget (OMB) for Approval; Export of Caviar or Meat of Paddlefish or Sturgeon from the Wild

AGENCY: Fish and Wildlife Service, Interior.

ACTION: Notice; request for comments.

SUMMARY: We (Fish and Wildlife Service) have sent an Information Collection Request (ICR) to OMB for review and approval. The ICR, which is summarized below, describes the nature of the collection and the estimated burden and cost. We may not conduct or sponsor and a person is not required to respond to a collection of information unless it displays a currently valid OMB control number.

DATES: You must submit comments on or before March 26, 2007.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey by mail, fax, or e-mail (see ADDRESSES), or by telephone at (703) 358-2482.

SUPPLEMENTARY INFORMATION:

OMB Control Number: None.

Title: Export of Caviar or Meat of Paddlefish or Sturgeon from the Wild.

Service Form Number(s): 3-200-76.

Type of Request: New collection.

Affected Public: Fishers; commercial dealers/distributors/suppliers and importers/exporters of paddlefish and sturgeon caviar and meat; and freight forwarders/brokers.

Respondent's Obligation: Required to obtain or retain a benefit.

Frequency of Collection: On occasion.

Estimated Annual Number of Respondents: 12.

Estimated Total Annual Responses: 120.

Estimated Time Per Response: 3 hours.

Estimated Total Annual Burden Hours: 360 hours.

Abstract: This information collection is associated with regulations implementing the Convention on International Trade in Endangered Species of Wild Fauna and Flora (CITES). CITES regulates international trade in listed species through a system of permits and certificates. The Service assesses permit requests according to criteria in CITES and Federal regulations for the issuance, suspension, revocation, or denial of permits.

We have developed a new permit application form specific to permit requests for the export of caviar and/or meat of wild-origin paddlefish and/or U.S. native sturgeon species. In the past, we have used FWS Form 3-200-27 (Export of Wildlife Removed from the Wild) to collect the information necessary for us to evaluate these permit requests. When using that general form, applicants have had considerable difficulty understanding what information is necessary and how to supply it. The new form, FWS Form 3-200-76, clarifies these issues.

Comments: On September 20, 2006, we published in the Federal Register (71 FR 55004) a notice of our intent to request that OMB approve this information collection. In that notice, we solicited comments for 60 days, ending on November 20, 2006. In addition, we conducted public outreach by sending a copy of the notice to members of the caviar community and asked for their comments. We received two comments.

One commenter was a State fisheries coordinator who supported the new form. The second commenter stated that the proposed form has more focused information and would assist applicants in preparing applications. The second commenter also had two suggestions:

(1) That we increase the estimated time to complete the application. After considering this comment, we increased the estimated average time to complete an application to 3 hours and revised the estimated annual burden on the public.

(2) That we revise the wording in the application to more accurately reflect how caviar exporters work. Wholesalers and suppliers typically do not provide the fishermen information directly to the applicant because it may be considered proprietary information. Due to the concern, we are not requiring that the intermediary provide the information to the applicant who is responsible for submitting the application. Instead, the supplier may submit it directly to the Service provided that it is clear which application is being referenced. In such cases, if the supplier believes the information is proprietary, the supplier should identify it as proprietary and/or business confidential, as appropriate. The applicant is still responsible for providing a complete application to the Service.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments submitted in response to this notice are a matter of public record.

Dated: January 22, 2007
Hope Grey,
Information Collection Clearance Officer, Fish and Wildlife Service.

[FR Doc. E7-2962 Filed 2-21-07; 8:45 pm]

Billing Code 4310-55-S